DEPARTMENT OF THE TREASURY

Internal Revenue Service

Privacy Act of 1974, as Amended

AGENCY: Internal Revenue Service, Treasury.

ACTION: Notice of proposed alteration of a Privacy Act system of records.

SUMMARY: In accordance with the requirements of the Privacy Act of 1974, as amended, 5 U.S.C. 552a, the Department of the Treasury, Internal Revenue Service (IRS), gives notice of proposed alteration of a system of records entitled Treasury/IRS 34.013, Identification Media Files System for Employees and Others Issued IRS Identification.

DATES: Comments must be received no later than March 13, 2015. The proposed altered system will become effective March 23, 2015, unless the IRS receives comments which cause reconsideration of this action.

ADDRESSES: Comments should be sent to the Office of Privacy, Governmental Liaison and Disclosure, Internal Revenue Service, 1111 Constitution Avenue NW., Washington, DC 20224. Comments will be available for inspection and copying in the IRS Freedom of Information Reading Room (Room 1621) at the above address. The telephone number for the Reading Room is (202) 317-4997 (not a toll-free number).

FOR FURTHER INFORMATION CONTACT: David Silverman, Management and Program Analyst, IRS Office of Privacy, Governmental Liaison and Disclosure, (202) 317-6452 (not a toll-free number).

SUPPLEMENTARY INFORMATION: IRS is proposing to alter the Privacy Act system of records entitled Treasury/IRS 34.013, Identification Media Files System for Employees and Others Issued IRS Identification, to include the additional purpose of using the physical access control system to determine the most efficient way for IRS to manage office space.

IRS employees present their Federal Standard Homeland Security Policy Directive (HSPD)-12 Personal Identity Verification (PIV Card) to a card reader to enter IRS facilities. The card reader scans the employee's identity credentials and transmits the data to a server that verifies the employee's authorization to enter a facility.

This entrance information will be aggregated to protect employee privacy and will then be used to enable IRS to more efficiently determine what space it needs for optimum use of resources. A notice describing this system of records was most recently published at 77 FR 155, August 10, 2012. IRS Proposes to alter the system to include the collection of this data.

Dated: January 26, 2015.
Helen Goff Foster,
Deputy Assistant Secretary for Privacy, Transparency, and Records.

TREASURY/IRS 34.013

System Name:

Identification Media Files System for Employees and Others Issued IRS Identification

* * * * *

Purposes: Current Purpose Statement: To track the issuance and loss of identification media.

New Purpose Statement:

Description of changes: To track the issuance and loss of identification media used to authenticate IRS employees and to plan for efficient allocation and utilization of space based upon records showing use of IRS facilities.

* * * * *

[FR Doc. 2015-02743 Filed 2-10-15; 8:45 am]

BILLING CODE 4830-01-P